ENVIRONMENTAL PROTECTION AGENCY

40 CFR Part 180

[EPA-HQ-OPP-2007-0674; FRL-8393-9]

2, 4-D, Bensulide, Chlorpyrifos, DCPA, Desmedipham, Dimethoate, Fenamiphos, Metolachlor, Phorate, Sethoxydim, Terbufos, Tetrachlorvinphos, and Triallate; Technical Amendment

AGENCY: Environmental Protection Agency (EPA).

ACTION: Final rule; technical amendment.

SUMMARY: EPA issued a final rule in the Federal Register of September 17, 2008, concerning the modification of certain tolerances for a number of pesticides including the herbicides DCPA and sethoxydim as a follow-up to the Agency's reregistration program under the Federal Insecticide, Fungicide, and Rodenticide Act (FIFRA) and tolerance reassessment program under the Federal Food, Drug, and Cosmetic Act (FFDCA). This document corrects clerical errors made in the final rule.

DATES: This final rule is effective December 31, 2008.

ADDRESSES: EPA has established a docket for this action under docket identification (ID) number EPA-HQ-OPP-2007-0674. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave., NW., Washington, DC 20460-0001; telephone number: (703) 308-0048; e-mail address: smith.jane-scott@epa.gov.

SUPPLEMENTARY INFORMATION:

I. General Information

A. Does this Action Apply to Me?

The Agency included in the final rule a list of those who may be potentially affected by this action. If you have questions regarding the applicability of this action to a particular entity, consult the person listed under FOR FURTHER INFORMATION CONTACT.

B. How Can I Access Electronic Copies of this Document and Other Related Information?

In addition to accessing electronically available documents at http://www.regulations.gov, you may access this Federal Register document electronically through the EPA Internet under the “Federal Register” listings at http://www.epa.gov/fedrgstr.

II. What Does this Amendment Do?

FR Doc. E8-21589 published in the Federal Register of September 17, 2008 (73 FR 53732) (FRL-8375-2), is corrected as follows:

1. On page 53737, under § 180.185(a), in the table, the tolerance for “vegetable, brassica, leafy, group 5” is corrected to read 5.0 ppm. (EPA proposed a 5.0 ppm tolerance on February 6, 2008 (73 FR 6867) (FRL-8345-2), and received no comments on that proposed tolerance, but through typographical error the tolerance was listed at 0.05 ppm in the final rule. This technical amendment corrects that error.)

2. On page 53742, under § 180.412(a), the table is corrected to include the following tolerances which were inadvertently omitted: Crambe, meal at 40.0 ppm; crambe, seed at 35.0 ppm; cuphea, seed at 35.0 ppm; echium, seed at 35.0 ppm; gold of pleasure, meal at 40.0 ppm; gold of pleasure, seed at 35.0 ppm; hare's ear mustard, seed at 35.0 ppm; lesquerella, seed at 35.0 ppm; lunaria, seed at 35.0 ppm; meadowfoam, seed at 35.0 ppm; milkweed, seed at 35.0 ppm; mustard, seed at 35.0 ppm; oil radish, seed at 35.0 ppm; poppy, seed at 35.0 ppm; sesame, seed at 35.0 ppm; and sweet rocket, seed at 35.0 ppm. (These oil seed commodity tolerances for sethoxydim were published in the Federal Register of July 9, 2008 (73 FR 39256) (FRL-8370-9). When EPA published the September 17, 2008 (73 FR 53732), final rule pertaining to sethoxydim tolerances for other commodities, the amendatory language in the final rule mistakenly omitted the tolerances finalized on July 9, 2008, rather than adding to them, as had been intended. EPA has not proposed revoking these tolerances. This technical amendment corrects that error).

III. Why is this Amendment Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making today's technical amendment final without prior proposal and opportunity for comment, because the erroneous changes being corrected were the result of clerical error, and were neither proposed nor commented upon. Notice and comment is therefore unnecessary.

IV. Do Any of the Statutory and Executive Order Reviews Apply to this Action?

No. This action only corrects typographical omissions and errors for a previously published final rule and does not impose any new requirements. EPA's compliance with the statues and Executive Orders for the underlying rule is discussed in Unit VI. of the final rule published September 17, 2008 (73 FR 53732).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: December 22, 2008.
Debra Edwards,
Director, Office of Pesticide Programs.

Therefore, 40 CFR part 180 is amended as follows:

PART 180—[AMENDED]

1. The authority citation for part 180 continues to read as follows:

Authority: 21 U.S.C. 321(q), 346a and 371.

2. Section 180.185 is amended by revising the entry for “Vegetable, brassica, leafy, group 5” in the table in paragraph (a) to read as follows:

§ 180.185 DCPA; tolerances for residues.

(a) General. * * *

Commodity | Parts per million
* * * * *
Vegetable, brassica, leafy, group 5 | 5.0
* * * * *

3. Section 180.412 is amended by alphabetically adding the following commodities to the table in paragraph (a) to read as follows:

§ 180.412 Sethoxydim; tolerances for residues.

(a) General. * * *

Commodity | Parts per million
* * * * *
Crambe, meal | 40.0
Crambe, seed | 35.0
* * * * *
Cuphea, seed | 35.0
* * * * *
Echium, seed | 35.0
* * * * *
Gold of pleasure, meal | 40.0
Gold of pleasure, seed | 35.0
* * * * *
Hare's ear mustard, seed | 35.0
* * * * *
Lesquerella, seed | 35.0
* * * * *
Lunaria, seed | 35.0
Meadowfoam, seed | 35.0
* * * * *
Milkweed, seed | 35.0
Mustard, seed | 35.0
* * * * *
Oil radish, seed | 35.0
* * * * *
Poppy, seed | 35.0
* * * * *
Sesame, seed | 35.0
* * * * *
Sweet rocket, seed | 35.0
* * * * *

* * * * *

[FR Doc. E8-31010 Filed 12-30-08; 8:45 am]

BILLING CODE 6560-50-S